ENVIRONMENTAL PROTECTION AGENCY

[FRL-7165-6 ]

Clean Water Act Section 303(d): Availability of Total Maximum Daily Loads (TMDLs) and Determinations That TMDLs Are Not Needed

AGENCY: Environmental Protection Agency (EPA).

ACTION: Notice of availability.

SUMMARY: This notice announces the availability for comment of the administrative record file for 98 TMDLs and the calculations for these TMDLs prepared by EPA Region 6 for waters listed in the Calcasieu and Ouachita river basins, under section 303(d) of the Clean Water Act (CWA). These TMDLs were completed in response to a court order in the lawsuit Sierra Club, et al. v. Clifford et al., No. 96-0527, (E.D. La.).

This notice also announces the availability for comment of EPA determinations that TMDLs are not needed for 20 waterbody/pollutant combinations in the Calcasieu and Ouachita river basins because new data and information show that water quality standards are being met. This proposed action would result in the removal of 20 waterbody/pollutant combinations from the Louisiana 303(d) list.

DATES: Comments must be submitted in writing to EPA on or before April 29, 2002.

ADDRESSES: Comments on the 98 TMDLs and the determinations that TMDLs are not needed for 20 waterbody/pollutant combinations should be sent to Ellen Caldwell, Environmental Protection Specialist, Water Quality Protection Division, U.S. Environmental Protection Agency Region 6, 1445 Ross Ave., Dallas, TX 75202-2733. For further information, contact Ellen Caldwell at (214) 665-7513. The administrative record file for these TMDLs and the determinations that TMDLs are not needed are available for public inspection at this address as well. Documents from the administrative record file may be viewed at www.epa.gov/region6/water/tmdl.htm, or obtained by calling or writing Ms. Caldwell at the above address. Please contact Ms. Caldwell to schedule an inspection.

FOR FURTHER INFORMATION CONTACT: Ellen Caldwell at (214) 665-7513.

SUPPLEMENTARY INFORMATION: In 1996, two Louisiana environmental groups, the Sierra Club and Louisiana Environmental Action Network (plaintiffs), filed a lawsuit in Federal Court against the United States Environmental Protection Agency (EPA), styled Sierra Club, et al. v. Clifford et al., No. 96-0527, (E.D. La.). Among other claims, plaintiffs alleged that EPA failed to establish Louisiana TMDLs in a timely manner.

EPA Seeks Comments on 98 TMDLs

By this notice EPA is seeking comment on the following 98 TMDLs for waters located within the Calcasieu and Ouachita river basins:

Subsegment | Waterbody name | Pollutant
030301 | Calcasieu River & Ship Channel—Saltwater Barrier to Moss Lake (Estuarine) (Includes Coon Island and Clooney Island Loops). | Contaminated sediments (Mercury, PAHs, and toxicity).
030306 | Bayou Verdine (Estuarine) | Contaminated sediments (4,4′-DDT, Methoxychlor, PAHs, Zinc, Calcium, and toxicity).
030901 | Bayou D'Inde—Headwaters to Calcasieu River (Estuarine) | Contaminated sediments (Mercury, toxicity,and organics).
030305 | Contraband Bayou (Estuarine) | Copper.
031201 | Calcasieu River Basin—Coastal Bays and Gulf Waters to State 3 mile limit. | Mercury.
030301 | Calcasieu River and Ship Channel—Saltwater Barrier to Moss Lake (Estuarine) (Includes Coon Island and Clooney Island Loops). | Metals (Copper, Lead, and Mercury).
030304 | Moss Lake (Estuarine) | Metals (Copper, Mercury).
030306 | Bayou Verdine (Estuarine) | Metals (Mercury, Nickel).
030901 | Bayou D'Inde—Headwaters to Calcasieu River (Estuarine) | Metals (Copper, Nickel, and Mercury).
030305 | Contraband Bayou (Estuarine) | Pathogen indicators.
030701 | Bayou Serpent | Pesticides (Fipronil).
030301 | Calcasieu River and Ship Channel—Saltwater Barrier to Moss Lake (Estuarine) (Includes Coon Island and Clooney Island Loops). | Priority organics (PAHs).
030306 | Bayou Verdine (Estuarine) | Priority organics (Phenols, and 1,2-Dichloroethane).
030901 | Bayou D'Inde—Headwaters to Calcasieu River (Estuarine) | Priority organics (PCBs, Tetrachloroethane, Hexachlorobenzene, Hexachlorobutadiene, and Bromoform).
030702 | English Bayou—Headwaters to Calcasieu River | Suspended solids.
030702 | English Bayou—Headwaters to Calcasieu River | Turbidity.
081501 | Castor Creek—Headwaters to Little River | Chlorides.
0809(04) | Little Bayou Boeuf/Wham Brake (within segment 0809) | Dioxins.
080912 | Tisdale Brake/Staulkinghead Creek from origin to Little Bayou Boeuf. | Dioxins.
080101 | Ouachita River—Arkansas State Line to Columbia Lock and Dam (Scenic from the Arkansas State Line to intersection with Bayou Bartholomew—22 miles). | Mercury.
080902 | Bayou Bonne Idee—Headwaters to Boeuf River | Nitrogen.
080102 | Bayou Chauvin | Noxious aquatic plants.
080201 | Ouachita River—Columbia Lock and Dam to Jonesville | Nutrients.
080302 | Black River—Corps of Engineers Control Structure to Red River. | Nutrients.
080902 | Bayou Bonne Idee—Headwaters to Boeuf River | Nutrients.
080904 | Bayou Lafourche—near Oakridge to Boeuf River near Columbia. | Nutrients.
080910 | Clear Lake | Nutrients.
081002 | Joe's Bayou—Headwaters to Bayou Macon | Nutrients.
081201 | Tensas River—Headwaters to Jonesville (including Tensas Bayou). | Nutrients.
081202 | Lake St. Joseph (Oxbow Lake) Nutrients.
080201 | Ouachita River—Columbia Lock | Organic enrichment/low DO.
080501 | Bayou de L'Outre—Arkansas State to Ouachita River (Scenic). | Organic enrichment/low DO.
080607 | Corney Bayou—from Arkansas State Line to Corney Lake (Scenic). | Organic enrichment/low DO.
080902 | Bayou Bonne Idee—Headwaters to Boeuf River | Organic enrichment/low DO.
080904 | Bayou Lafourche—near Oakridge to Boeuf River near Columbia | Organic enrichment/low DO.
080910 | Clear Lake | Organic enrichment/low DO.
081002 | Joe's Bayou—Headwaters to Bayou Macon | Organic enrichment/low DO.
081201 | Tensas River—Headwaters to Jonesville (including Tensas Bayou) | Organic enrichment/low DO.
081202 | Lake St. Joseph (Oxbow Lake) | Organic enrichment/low DO.
080102 | Bayou Chauvin—Headwaters to the Ouachita River | Pathogen indicators.
080610 | Middle Fork of Bayou D'Arbonne—From origin to Bayou D'Arbonne Lake (Scenic) | Pathogen indicators.
080905 | Turkey Creek—Headwaters to Turkey Creek Cutoff and Turkey Creek Cutoff to Big Creek including Glade Slough | Pathogen indicators.
080910 | Clear Lake | Pathogen indicators.
081001 | Bayou Macon | Pathogen indicators.
081602 | Little River—From Bear Creek to Catahoula Lake (Scenic) | Pathogen indicators.
080901 | Boeuf River—Arkansas State Line to Ouachita River | Pesticides (Carbofuran, DDT, and Toxaphene).
080903 | Big Creek—Headwaters to Boeuf | Pesticides (Carbofuran, Atrazine, DDT, and Methyl Parathion).
081001 | Bayou Macon | Pesticides (DDT).
081002 | Joe's Bayou—Headwaters to Bayou Macon | Pesticides (Carbofuran, and DDT).
081201 | Tensas River—Headwaters to Jonesville including Tensas Bayou | Pesticides (Carbofuran, Toxaphene, and DDT).
080902 | Bayou Bonne Idee—Headwaters to Boeuf River | Phosphorus.
080904 | Bayou Lafourche—near Oakridge to Boeuf River near Columbia | Priority organics (Dioxins).
081501 | Castor Creek—Headwaters to Little River | Salinity/TDS.
080202 | Bayou Louis | Siltation.
080901 | Boeuf River—Arkansas State Line to Ouachita River | Siltation.
080102 | Bayou Chauvin | Suspended solids.
080901 | Boeuf River—Arkansas State Line to Ouachita River | Suspended solids.
080903 | Big Creek—Headwaters to Boeuf River (including Big Colewa Bayou) | Suspended solids.
080904 | Bayou Lafourche—near Oakridge to Boeuf River near Columbia | Suspended solids.
080910 | Clear Lake | Suspended solids.
081001 | Bayou Macon—Arkansas State Line to Tensas River | Suspended solids.
081002 | Joe's Bayou—Headwaters to Bayou Macon | Suspended solids.
081201 | Tensas River—Headwaters to Jonesville (including Tensas Bayou) | Suspended solids.
081202 | Lake St. Joseph (Oxbow Lake) | Suspended solids.
080102 | Bayou Chauvin | Turbidity.
080901 | Boeuf River—Arkansas State Line to Ouachita River | Turbidity.
080903 | Big Creek—Headwaters to Boeuf River (including Big Colewa Bayou) | Turbidity.
080904 | Bayou Lafourche—near Oakridge to Boeuf River near Columbia | Turbidity.
081001 | Bayou Macon—Arkansas State Line to Tensas River | Turbidity.
081201 | Tensas River—Headwaters to Jonesville (including Tensas Bayou) | Turbidity.

EPA Seeks Comments on Proposed Determinations That 20 TMDLs for Waterbody/Pollutant Combinations Are Not Needed Due to Assesssment of New Data and Information That Shows They Are Meeting WQS

Subsegment | Waterbody name | Pollutant
030301 | Calcasieu River and Ship Channel—Saltwater Barrier to Moss Lake (Estuarine) (includes Coon Island and Clooney Island Loops) | Ammonia
030302 | Lake Charles (Estuarine) | Non-priority organics
030306 | Bayou Verdine | Non-priority organics
030901 | Bayou D'Inde—Headwaters to Calcasieu River (Estuarine) | Non-priority organics
030901 | Bayou D'Inde—Headwaters to Calcasieu River (Estuarine) | Other inorganics
030302 | Lake Charles (Estuarine) | Priority organics
030303 | Prien Lake | Priority organics
030304 | Moss Lake (Estuarine) | Priority organics
030305 | Contraband Bayou (Estuarine) | Priority organics
030401 | Calcasieu River—Calcasieu Ship Channel Below Moss Lake to the Gulf of Mexico (Estuarine) (Includes Monkey Island Loop). | Priority organics
030402 | Calcasieu Lake (Estuarine) | Priority organics
080102 | Bayou Chauvin—Headwaters to the Ouachita River | Ammonia
080901 | Boeuf River—Arkansas State Line to Ouachita River | Ammonia
080905 | Turkey Creek—Headwaters to Turkey Creek Cutoff and Turkey Creek Cutoff to Big Creek including Glade Slough. | Ammonia
081401 | Dugdemona River—Headwaters to junction with Big Creek | Dioxins
081001 | Bayou Macon—Arkansas State Line to Tensas River | Nutrients
081402 | Dugdemona River—From Big Creek to Little River | Organic enrichment/low DO
081609 | Hemphill Creek—Headwaters to Catahoula Lake (includes Hair Creek). | Organic enrichment/low DO
080901 | Boeuf River—Arkansas State Line to Ouachita River | Phosphorus
080903 | Big Creek—Headwaters to Boeuf River (including Big Colewa Bayou). | Phosphorus

EPA requests that the public provide any water quality related data and information that may be relevant to the calculations for these 98 TMDLs, or any other comments relevant to the 20 proposed determinations that TMDLs are not needed. EPA will review all data and information submitted during the public comment period and revise the TMDLs and determinations where appropriate. EPA will then forward the TMDLs to the Court and the Louisiana Department of Environmental Quality (LDEQ). LDEQ will incorporate the TMDLs into its current water quality management plan. EPA also will revise the Louisiana 303(d) list as appropriate.

Dated: March 21, 2002.
Jayne Fontenot,
Acting Director, Water Quality Protection Division, Region 6.

[FR Doc. 02-7771 Filed 3-28-02; 8:45 am]

BILLING CODE 6560-50-P